DEPARTMENT OF HOMELAND SECURITY

Federal Emergency Management Agency

44 CFR Part 65

[Docket ID FEMA-2008-0020; Internal Agency Docket No. FEMA-B-1048]

Changes in Flood Elevation Determinations

AGENCY: Federal Emergency Management Agency, DHS.

ACTION: Interim rule.

SUMMARY: This interim rule lists communities where modification of the Base (1% annual-chance) Flood Elevations (BFEs) is appropriate because of new scientific or technical data. New flood insurance premium rates will be calculated from the modified BFEs for new buildings and their contents.

DATES: These modified BFEs are currently in effect on the dates listed in the table below and revise the Flood Insurance Rate Maps (FIRMs) in effect prior to this determination for the listed communities.

From the date of the second publication of these changes in a newspaper of local circulation, any person has ninety (90) days in which to request through the community that the Mitigation Assistant Administrator of FEMA reconsider the changes. The modified BFEs may be changed during the 90-day period.

ADDRESSES: The modified BFEs for each community are available for inspection at the office of the Chief Executive Officer of each community. The respective addresses are listed in the table below.

FOR FURTHER INFORMATION CONTACT: William R. Blanton Jr., Engineering Management Branch, Mitigation Directorate, Federal Emergency Management Agency, 500 C Street, SW., Washington, DC 20472, (202) 646-3151.

SUPPLEMENTARY INFORMATION: The modified BFEs are not listed for each community in this interim rule. However, the address of the Chief Executive Officer of the community where the modified BFE determinations are available for inspection is provided.

Any request for reconsideration must be based on knowledge of changed conditions or new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified BFEs are the basis for the floodplain management measures that the community is required to either adopt or to show evidence of being already in effect in order to qualify or to remain qualified for participation in the National Flood Insurance Program (NFIP).

These modified BFEs, together with the floodplain management criteria required by 44 CFR 60.3, are the minimum that are required. They should not be construed to mean that the community must change any existing ordinances that are more stringent in their floodplain management requirements. The community may at any time enact stricter requirements of its own, or pursuant to policies established by the other Federal, State, or regional entities. The changes in BFEs are in accordance with 44 CFR 65.4.

National Environmental Policy Act. This interim rule is categorically excluded from the requirements of 44 CFR part 10, Environmental Consideration. An environmental impact assessment has not been prepared.

Regulatory Flexibility Act. As flood elevation determinations are not within the scope of the Regulatory Flexibility Act, 5 U.S.C. 601-612, a regulatory flexibility analysis is not required.

Regulatory Classification. This interim rule is not a significant regulatory action under the criteria of section 3(f) of Executive Order 12866 of September 30, 1993, Regulatory Planning and Review, 58 FR 51735.

Executive Order 13132, Federalism. This interim rule involves no policies that have federalism implications under Executive Order 13132, Federalism.

Executive Order 12988, Civil Justice Reform. This interim rule meets the applicable standards of Executive Order 12988.

List of Subjects in 44 CFR Part 65

Flood insurance, Floodplains, Reporting and recordkeeping requirements.

Accordingly, 44 CFR part 65 is amended to read as follows:

PART 65—[AMENDED]

1. The authority citation for part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location and case No. | Date and name of newspaper where notice was published | Chief executive officer of community | Effective date of modification | Community No.
Arizona: Yavapai | City of Cottonwood (08-09-1293P) | March 13, 2009; March 20, 2009; Prescott Daily Courier | The Honorable Diane Joens, Mayor, City of Cottonwood, 827 North Main Street, Cottonwood, AZ 86326 | July 20, 2009 | 040096
Colorado:
Boulder | City of Longmont (08-08-0011P) | March 12, 2009; March 19, 2009; Longmont Times-Call | The Honorable Roger Lange, Mayor, City of Longmont, 350 Kimbark Street, Longmont, CO 80501 | July 17, 2009 | 080027
El Paso | Unincorporated areas of El Paso County (08-08-0541P) | March 18, 2009; March 25, 2009; El Paso County Advertiser | The Honorable Dennis Hisey, Chairman, El Paso County, Board of Commissioners, 27 East Vermijo Avenue, Colorado Springs, CO 80903-2208 | July 23, 2009 | 080059
Jefferson | City of Westminster (09-08-0055P) | March 12, 2009; March 19, 2009; Westminster Window | The Honorable Nancy McNally, Mayor, City of Westminster, 4800 West 92nd Avenue, Westminster, CO 80031 | July 17, 2009 | 080008
Teller | Unincorporated areas of Teller County (08-08-0921P) | March 11, 2009; March 18, 2009; Pikes Peak Courier View | The Honorable James Ignatius, Chairman, Teller County, Board of Commissioners, 112 North A Street, Cripple Creek, CO 80813 | July 16, 2009 | 080173
Teller | Town of Woodland Park (08-08-0921P) | March 11, 2009; March 18, 2009; Pikes Peak Courier View | The Honorable Steve Randolph, Mayor, City of Woodland Park, 220 West South Avenue, Woodland Park, CO 80866 | July 16, 2009 | 080175
Georgia:
Barrow | Unincorporated areas of Barrow County (07-04-5359P) | March 25, 2009; April 1, 2009; Barrow County News | The Honorable Daniel Yearwood Jr., Chairman, Barrow County, Board of Commissioners, 233 East Broad Street, Winder, GA 30680 | July 30, 2009 | 130497
Columbia | Unincorporated areas of Columbia County (08-04-3574P) | March 15, 2009; March 22, 2009; Columbia County News-Times | The Honorable Ron C. Cross, Chairman, Columbia County, Board of Commissioners, P.O. Box 498, Evans, GA 30809 | July 20, 2009 | 130059
Hawaii: Hawaii | Unincorporated areas of Hawaii County (08-09-1568P) | March 12, 2009; March 19, 2009; Hawaii Tribune-Herald | The Honorable William P. Kenoi, Mayor, Hawaii County, 25 Aupuni Street, Hilo, HI 96720 | July 17, 2009 | 155166
Illinois: McHenry | Village of Algonquin (08-05-3751P) | March 20, 2009; March 27, 2009; Northwest Herald | The Honorable John Schmitt, President, Village of Algonquin, 2200 Harnish Drive, Algonquin, IL 60102 | July 27, 2009 | 170474
Missouri: St. Charles | City of St. Peters (08-07-1439P) | March 13, 2009; March 20, 2009; St. Louis Post Dispatch | The Honorable Len Pagano, Mayor, City of St. Peters, One St. Peters Centre Boulevard, St. Peters, MO 63376 | July 20, 2009 | 290319
Ohio: Lorain | City of Avon Lake (08-05-5004P) | March 12, 2009; March 19, 2009; Morning Journal | The Honorable Karl J. Zuber, Mayor, City of Avon Lake, 150 Avon Belden Road, Avon Lake, OH 44012 | February 27, 2009 | 390602
Oregon: Lane | Unincorporated areas of Lane County (08-10-0649P) | March 20, 2009; March 27, 2009; The Register-Guard | The Honorable Faye Stewart II, Chairman, Lane County, Board of Commissioners, Lane County Public Service Building, 125 East Eighth Street, Eugene, OR 97401 | July 27, 2009 | 415591
South Carolina:
Jasper | Town of Hardeeville (07-04-6247P) | February 4, 2009; February 11, 2009; Jasper County Sun | The Honorable A. Brooks Willis, Mayor, Town of Hardeeville, 205 East Main Street, Hardeeville, SC 29927 | June 11, 2009 | 450113
Jasper | Unincorporated areas of Jasper County (07-04-6247P) | February 4, 2009; February 11, 2009; Jasper County Sun | The Honorable George Hood, Chairman, Jasper County Council, P.O. Box 1149, Ridgeland, SC 29936 | June 11, 2009 | 450112

(Catalog of Federal Domestic Assistance No. 97.022, “Flood Insurance.”)

Dated: April 30, 2009.
Deborah S. Ingram,
Acting Deputy Assistant Administrator for Mitigation, Department of Homeland Security, Federal Emergency Management Agency.

[FR Doc. E9-10635 Filed 5-6-09; 8:45 am]

BILLING CODE 9110-12-P